DEPARTMENT OF JUSTICE

Notice of Lodging of Consent Decree Pursuant to the Comprehensive Environmental Response, Compensation, and Liability Act

Notice is hereby given that a consent decree in United States v. Air Products and Chemicals, Inc., et al., Civil Action No. 00-109 (W.D. Pa.) was lodged with the court on January 19, 2000.

The proposed decree resolves claims of the United States against 11 defendants under Sections 106 and 107 of the Comprehensive Environmental Response, Compensation and Liability Act, as amended (“CERCLA”), 42 U.S.C. §§ 9606 and 9607, for response costs and actions at the River Road Superfund Site in Mercer County, PA. The decree requires the defendants to perform the EPA-selected remedial action to address hazardous substance contamination at the site. That remedial action includes, inter alia: (i) Institutional restrictions to prevent use of on-site groundwater for drinking and prohibit disturbing the cap over the contamination, and (ii) continued operation and maintenance of the following previously installed features: a fence around the contamination, a clay cover complying with Pennsylvania's requirements for solid waste caps, a ground water dam to prevent contamination from reaching the nearby Shenango River, and a groundwater/leachate collection and treatment system. EPA estimates the cost of performing the ROD will be approximately $2.5 million.

The Department of Justice will receive, for a period of thirty (30) days from the date of this publication, comments relating to the proposed consent decree. Comments should be addressed to the Assistant Attorney General for the Environment and Natural Resources Division, Department of Justice, P.O. Box 7611, Washington, D.C. 20530, and should refer to United States v. Air Products and Chemicals, Inc., et al., Civil Action No. 00-109 (W.D. Pa.), DOJ Ref. #90-11-2-1234/1. Commenters may request an opportunity for a public meeting in the affected area, in accordance with Section 7003(d) of RCRA, 42 U.S.C. 6973(d).

The proposed consent decree may be examined and copied at the Office of the United States Attorney, 633 United States Post Office and Courthouse, Pittsburgh, PA 15219; or at the Region III Office of the Environmental Protection Agency, c/o Thomas Cinti, Assistant Regional Counsel, 1650 Arch Street, Philadelphia, PA 19103. A copy of the proposed consent decree may be obtained by mail from the Department of Justice Consent Decree Library, P.O. Box No. 7611, Washington, D.C. 20044. In requesting a copy, please refer to the referenced case and enclose a check in the amount of $21.25 (25 cents per page reproduction costs), payable to the Consent Decree Library. A copy of the exhibits to the decree may be obtained from the same source for an additional charge.

Joel M. Gross,
Chief, Environmental Enforcement Section, Environment and Natural Resources Division.

[FR Doc. 00-4508 Filed 2-24-00; 8:45 am]

BILLING CODE 4410-15-M